DEPARTMENT OF THE TREASURY

Internal Revenue Service

[REG-154000-04]

Proposed Collection; Comment Request for Regulation Project; Withdrawal

AGENCY: Internal Revenue Service (IRS).

ACTION: Withdrawal of notice.

SUMMARY: This document withdraws a notice and request for comments that was published in the Federal Register on February 2, 2005 (70 FR 5510) that solicited comments on proposed regulations (REG-154000-04) relating to Diesel Fuel and Kerosene Excise Tax and Dye Injection (OMB No. 1545-1418).

SUPPLEMENTARY INFORMATION:

Background

The IRS is withdrawing the request for comments because the new regulations have not yet been fully developed and are unavailable at this time. The IRS will announce its plan to submit the Information Collection Request in subsequent issues of the Federal Register that will include the regulations. An opportunity to provide comments will be included when the new regulations are completed and published in the Federal Register.

Withdrawal of Notice and Request for Comments

Accordingly, the notice and request for comments (REG-154000-04) that was published in the Federal Register on February 2, 2005 (70 FR 5510) which was the subject of FR Doc. 05-1950, is withdrawn.

Glenn Kirkland,
IRS Reports Clearance Officer.

[FR Doc. 05-3459 Filed 2-22-05; 8:45 am]

BILLING CODE 4830-01-P